INTER-AMERICAN FOUNDATION

Sunshine Act Meetings

TIME AND DATE: May 4, 2020, 9:30 a.m.-11:30 a.m.

PLACE: Via tele-conference.

STATUS: Meeting of the Board of Directors, Open to the Public.

MATTERS TO BE CONSIDERED:

Call to order

Approval of the Minutes from the November 19, 2020, Meeting of the Board of Directors and Advisory Council

Agenda overview and IAF President/CEO updates

COVID-19 Impact and Response

Management Team Updates

New Business

Adjournment

FOR DIAL IN INFORMATION CONTACT: Karen Vargas, Executive Assistant, (202) 524-8869.

CONTACT PERSON FOR MORE INFORMATION: Aswathi Zachariah, General Counsel, (202) 683-7118.

Aswathi Zachariah,
General Counsel.

[FR Doc. 2020-08886 Filed 4-22-20; 4:15 pm]

BILLING CODE 7025-01-P